DEPARTMENT OF TRANSPORTATION

Federal Aviation Administration

Notice of Release of Land Affecting Federal Grant Assurance Obligations at Brown Field Municipal Airport, San Diego, San Diego County, California

AGENCY: Federal Aviation Administration, DOT.

ACTION: Notice of request to release airport land.

SUMMARY: The Federal Aviation Administration (FAA) is considering a proposal and invites public comment to change a portion of the airport from aeronautical use to non-aeronautical use at Brown Field Municipal Airport, San Diego, San Diego County, California. The proposal consists of 51 parcels containing approximately 197.96 acres of airport land, located on the airfield.

DATES: Comments must be received on or before December 8, 2021.

ADDRESSES: Comments on the request may be mailed or delivered to the FAA at the following address: Ms. Cathryn Cason, Manager, Los Angeles Airports District Office, Federal Aviation Administration, 777 South Aviation Boulevard, Suite 150, El Segundo, California 90245. In addition, one copy of the comment submitted to the FAA must be mailed or delivered to Mr. Jorge Rubio, A.A.E., C.A.E., Deputy Director, Airport Management, Department of Real Estate and Airport Management, City of San Diego, 3750 John J. Montgomery Drive, San Diego, California 92123.

SUPPLEMENTARY INFORMATION: The land was originally acquired by the City through the Federal Property and Administrative Services Act of 1949 and the Surplus Property Act of 1944, via a quitclaim deed issued by the General Services Administration on September 1, 1962. The land will be leased for non-aeronautical revenue generation. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 stat. 75), this notice must be published in the Federal Register 30 days before the DOT Secretary may waive any condition imposed on a federally obligated airport by surplus property conveyance deeds or grant agreements.

Issued in El Segundo, California, on November 3, 2021.
Brian Q. Armstrong,
Manager, Safety and Standards Branch, Airports Division, Western-Pacific Region.

[FR Doc. 2021-24351 Filed 11-5-21; 8:45 am]

BILLING CODE 4910-13-P